DEPARTMENT OF ENERGY

Federal Energy Regulatory Commission

Combined Notice of Filings #1

Take notice that the Commission received the following electric corporate filings:

Docket Numbers: EC13-49-000.

Applicants: Central Maine Power Company, Maine Electric Power Company.

Description: Application for Authorization Under Section 203(a)91)(A) of (B) of the Federal Power Act and Request for Waivers and Expedited Action of Central Maine Power Company and Maine Public Service Company.

Filed Date: 11/30/12.

Accession Number: 20121130-5475.

Comments Due: 5 p.m. ET 12/21/12.

Take notice that the Commission received the following electric rate filings:

Docket Numbers: ER10-1782-000.

Applicants: Tampa Electric Company.

Description: Tampa Electric Company submits tariff filing per 35.19a(b): Compliance Refund Report to be effective N/A.

Filed Date: 11/30/12.

Accession Number: 20121130-5410.

Comments Due: 5 p.m. ET 12/21/12.

Docket Numbers: ER10-2985-008; ER10-3049-009; ER10-3051-009.

Applicants: Champion Energy Marketing LLC, Champion Energy Services, LLC, Champion Energy, LLC.

Description: Notice of Non-Material Change in Status of Champion Energy Marketing LLC, et al.

Filed Date: 12/3/12.

Accession Number: 20121203-5071.

Comments Due: 5 p.m. ET 12/24/12.

Docket Numbers: ER12-953-001.

Applicants: ISO New England Inc.

Description: ISO New England Inc. submits tariff filing per 35: FCM Compliance Filing to be effective 2/12/2013.

Filed Date: 12/3/12.

Accession Number: 20121203-5028.

Comments Due: 5 p.m. ET 12/24/12.

Docket Numbers: ER12-1753-001.

Applicants: Wyoming Colorado Intertie, LLC.

Description: Wyoming Colorado Intertie, LLC submits tariff filing per 35: Revised Wyoming Wind and Power Transmission Service Agreement to be effective 7/9/2012.

Filed Date: 12/3/12.

Accession Number: 20121203-5060.

Comments Due: 5 p.m. ET 12/24/12.

Docket Numbers: ER12-2277-002.

Applicants: Midwest Independent Transmission System Operator, Inc.

Description: Midwest Independent Transmission System Operator, Inc. submits tariff filing per 35.17(b): G631-2-3 to be effective 7/21/2012.

Filed Date: 11/30/12.

Accession Number: 20121130-5357.

Comments Due: 5 p.m. ET 12/21/12.

Docket Numbers: ER12-2525-001.

Applicants: Southwest Power Pool, Inc.

Description: Southwest Power Pool, Inc. submits tariff filing per 35.17(b): Response to Deficiency Letter—ER12-2525-000 to be effective 11/1/2012.

Filed Date: 11/30/12.

Accession Number: 20121130-5401.

Comments Due: 5 p.m. ET 12/21/12.

Docket Numbers: ER12-2568-002.

Applicants: New York Independent System Operator, Inc.

Description: New York Independent System Operator, Inc. submits tariff filing per 35: NYISO Compliance Filing of Services Tariff Rate Schedule Black Start Provisions to be effective 11/1/2012.

Filed Date: 11/30/12.

Accession Number: 20121130-5395.

Comments Due: 5 p.m. ET 12/21/12.

Docket Numbers: ER12-2654-005.

Applicants: Netsales & Arts, Inc.

Description: Netsales & Arts, Inc. submits tariff filing per 35.17(b): mbr_tar to be effective 9/30/2012.

Filed Date: 11/30/12.

Accession Number: 20121130-5398.

Comments Due: 5 p.m. ET 12/21/12.

Docket Numbers: ER13-486-000.

Applicants: PJM Interconnection, L.L.C.

Description: PJM Interconnection, L.L.C. submits tariff filing per 35.13(a)(2)(iii: Revisions to the PJM OATT Attachment DD.2 re DR Targets to be effective 1/31/2013.

Filed Date: 11/30/12.

Accession Number: 20121130-5397.

Comments Due: 5 p.m. ET 12/21/12.

Docket Numbers: ER13-487-000.

Applicants: Dogwood Energy LLC.

Description: Dogwood Energy LLC submits tariff filing per 35.13(a)(2)(iii: Category 1 Filing for the Southwest Power Pool Region to be effective 8/30/2010.

Filed Date: 11/30/12.

Accession Number: 20121130-5399.

Comments Due: 5 p.m. ET 12/21/12.

Docket Numbers: ER13-488-000.

Applicants: EP Rock Springs, LLC, PJM Interconnection, L.L.C.

Description: EP Rock Springs, LLC submits tariff filing per 35.13(a)(2)(iii: EP Rock Springs files New PJM OATT Attachment H-23 to be effective 2/1/2013.

Filed Date: 11/30/12.

Accession Number: 20121130-5402.

Comments Due: 5 p.m. ET 12/21/12.

Docket Numbers: ER13-489-000.

Applicants: Black Hills Power, Inc.

Description: Black Hills Power, Inc. submits tariff filing per 35.13(a)(2)(iii: GDEMA Revised Schedule B to be effective 12/1/2012.

Filed Date: 11/30/12.

Accession Number: 20121130-5404.

Comments Due: 5 p.m. ET 12/21/12.

Docket Numbers: ER13-490-000.

Applicants: Black Hills Power, Inc.

Description: Black Hills Power, Inc. submits tariff filing per 35.13(a)(2)(iii: GDEMA Revised Schedule B to be effective 12/1/2012.

Filed Date: 11/30/12.

Accession Number: 20121130-5406.

Comments Due: 5 p.m. ET 12/21/12.

Docket Numbers: ER13-491-000.

Applicants: Black Hills Power, Inc.

Description: Black Hills Power, Inc. submits tariff filing per 35.13(a)(2)(iii: GDEMA Revised Schedule B to be effective 12/1/2012.

Filed Date: 11/30/12.

Accession Number: 20121130-5407.

Comments Due: 5 p.m. ET 12/21/12.

Docket Numbers: ER13-492-000.

Applicants: Black Hills Power, Inc.

Description: Black Hills Power, Inc. submits tariff filing per 35.13(a)(2)(iii: GDEMA Revised Schedule B to be effective 12/1/2012.

Filed Date: 11/30/12.

Accession Number: 20121130-5408.

Comments Due: 5 p.m. ET 12/21/12.

Docket Numbers: ER13-493-000.

Applicants: New England Power Pool Participants Committee.

Description: New England Power Pool Participants Committee submits tariff filing per 35.13(a)(2)(iii: Dec 2012 Membership Filing to be effective 11/1/2012.

Filed Date: 12/3/12.

Accession Number: 20121203-5001.

Comments Due: 5 p.m. ET 12/24/12.

Docket Numbers: ER13-494-000.

Applicants: Pacific Gas and Electric Company.

Description: Pacific Gas and Electric Company submits tariff filing per 35.13(a)(2)(iii: Amendment to WD Tariff: Generator Interconnection Procedures to be effective 12/4/2012.

Filed Date: 12/3/12.

Accession Number: 20121203-5003.

Comments Due: 5 p.m. ET 12/24/12.

Docket Numbers: ER13-495-000.

Applicants: ISO New England Inc., New England Power Pool.

Description: ISO-NE and NEPOOL Filing of ICR, HQICCS and Related Values for 2013/2014, 2014/2015, and 2015/2016 Annual Reconfiguration Auctions.

Filed Date: 11/30/12.

Accession Number: 20121130-5460.

Comments Due: 5 p.m. ET 12/21/12.

Docket Numbers: ER13-496-000.

Applicants: Public Service Company of Colorado.

Description: Public Service Company of Colorado submits tariff filing per 35.13(a)(2)(iii: 2012-12-3-PSCo-TSGT-NOA 328 to be effective 7/1/2012.

Filed Date: 12/3/12.

Accession Number: 20121203-5026.

Comments Due: 5 p.m. ET 12/24/12.

Docket Numbers: ER13-497-000.

Applicants: Southern California Edison Company.

Description: Southern California Edison Company submits tariff filing per 35.13(a)(2)(iii: SGIA and Distribution Service Agreement RE Columbia 3 LLC to be effective 12/4/2012.

Filed Date: 12/3/12.

Accession Number: 20121203-5052.

Comments Due: 5 p.m. ET 12/24/12.

Docket Numbers: ER13-498-000

Applicants: Southwest Power Pool, Inc.

Description: Southwest Power Pool, Inc. submits tariff filing per 35.13(a)(2)(iii: 2198R4 Kansas Power Pool NITSA NOA to be effective 11/1/2012.

Filed Date: 12/3/12.

Accession Number: 20121203-5058.

Comments Due: 5 p.m. ET 12/24/12.

Docket Numbers: ER13-499-000.

Applicants: Tenaska Washington Partners, L.P.

Description: Tenaska Washington Partners, L.P. submits tariff filing per 35.15: Notice of Cancellation to be effective 12/4/2012.

Filed Date: 12/3/12.

Accession Number: 20121203-5059.

Comments Due: 5 p.m. ET 12/24/12.

Docket Numbers: ER13-500-000.

Applicants: PJM Interconnection, L.L.C.

Description: PJM Interconnection, L.L.C. submits tariff filing per 35.13(a)(2)(iii: Original Service Agreement No. 3441; Queue No. X2-099 to be effective 11/7/2012.

Filed Date: 12/3/12.

Accession Number: 20121203-5115.

Comments Due: 5 p.m. ET 12/24/12.

Docket Numbers: ER13-501-000.

Applicants: PJM Interconnection, L.L.C.

Description: PJM Interconnection, L.L.C. submits tariff filing per 35.13(a)(2)(iii: Original Service Agreement No. 3442; Queue No. X1-114 to be effective 11/8/2012.

Filed Date: 12/3/12.

Accession Number: 20121203-5117.

Comments Due: 5 p.m. ET 12/24/12.

Docket Numbers: ER13-502-000.

Applicants: Lively Grove Energy Partners, LLC.

Description: Lively Grove Energy Partners, LLC submits tariff filing per 35.15: Notice of Cancellation of Reactive Power Rate Schedule v 1.0.0 to be effective 12/1/2012.

Filed Date: 12/3/12.

Accession Number: 20121203-5120.

Comments Due: 5 p.m. ET 12/24/12.

Docket Numbers: ER13-503-000.

Applicants: Westar Energy, Inc.

Description: Westar Energy, Inc. submits tariff filing per 35.13(a)(2)(iii: KEPCo, Revs to Attachment A—Delivery Points (02/01/13) to be effective 2/1/2013.

Filed Date: 12/3/12.

Accession Number: 20121203-5144.

Comments Due: 5 p.m. ET 12/24/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2012.
Nathaniel J. Davis, Sr.,
Deputy Secretary.

[FR Doc. 2012-29830 Filed 12-10-12; 8:45 am]

BILLING CODE 6717-01-P